DEPARTMENT OF TRANSPORTATION

National Highway Traffic Safety Administration

[Docket No. NHTSA-2007-28629]

Statistical Analysis of the Effectiveness of Electronic Stability Control (ESC) Systems—Final Report

AGENCY: National Highway Traffic Safety Administration (NHTSA), Department of Transportation.

ACTION: Request for comments on technical report.

SUMMARY: This notice announces NHTSA's publication of a Technical Report evaluating the effectiveness of Electronic Stability Control (ESC) Systems. The report's title is: Statistical Analysis of the Effectiveness of Electronic Stability Control (ESC) Systems—Final Report.

DATES: Please submit comments by November 27, 2007.

ADDRESSES:

Report: The report is available for viewing online in PDF format at the Docket Management System (DMS) Web page of the Department of Transportation, http://dms.dot.gov. Click on “Simple Search”; type in the five-digit docket number shown at the beginning of this Notice (28629) and click on “Search”; that brings up a list of every item in the docket, starting with a copy of the Federal Register notice (item NHTSA-2007-28629-1) and a copy of the report in PDF format (item NHTSA-2007-28629-2).

Comments: You may submit comments [identified by DOT DMS Docket Number NHTSA-2007-28629] by any of the following methods:

• Web Site: http://dms.dot.gov. Follow the instructions for submitting comments on the DOT electronic docket site.

• Fax: 1-202-493-2251.

• Mail: Docket Management Facility; U.S. Department of Transportation, Room W12-140, 1200 New Jersey Avenue, SE., Washington, DC 20590.

• Hand Delivery: 1200 New Jersey Avenue, SE., West Building, Room W12-140, Washington, DC, between 9 a.m. and 5 p.m., Monday through Friday, except Federal holidays.

You may call Docket Management at 1-800-647-5527 and visit the Docket from 10 a.m. to 5 p.m., Monday through Friday, except Federal holidays.

FOR FURTHER INFORMATION CONTACT: Jennifer N. Dang, Evaluation Division, NPO-131, National Center for Statistics and Analysis, National Highway Traffic Safety Administration, Room W53-455, 1200 New Jersey Avenue, SE., Washington, DC 20590. Telephone: 202-493-0598. FAX: 202-366-3189. E-mail: Jenny.Dang@dot.gov.

SUPPLEMENTARY INFORMATION: In 2004, NHTSA initiated an evaluation to assess the effectiveness of ESC in reducing single-vehicle crashes in various domestic and imported passenger cars and Sport Utility Vehicles (SUVs). The preliminary results from that study indicated that ESC was highly effective in reducing single-vehicle crashes. In 2006, NHTSA published a draft of this report (an update and modification to the 2004 report) in support of a proposed rulemaking to establish a new Federal Motor Vehicle Safety Standard, FMVSS No. 126, which requires ESC systems on passenger cars, multipurpose passenger vehicles, trucks, and buses with a gross vehicle weight rating of 10,000 pounds or less. Statistical analyses of 1997-2004 crash data from the Fatality Analysis Reporting System (FARS) and 1997-2003 crash data from the State data files estimate reductions with ESC for various types of crash involvements.

• ESC reduced fatal run-off-road crashes by 36 percent for passenger cars and 70 percent for light trucks and vans (LTVs). The reductions are statistically significant.

• Police-reported run-off-road involvements were decreased by 45 percent in passenger cars and 72 percent in LTVs. The decreases are statistically significant.

• Fatal single-vehicle crashes that did not involve pedestrians, bicycles, and animals decreased (due to ESC) by 36 percent in passenger cars and 63 percent in LTVs. The decreases are statistically significant.

• ESC reduced police-reported single-vehicle crashes (excluding pedestrian, bicycle, animal crashes) by 26 percent for passenger cars and 48 percent for LTVs. The reductions are statistically significant.

• Rollover involvements in fatal crashes were decreased by 70 percent in passenger cars and 88 percent in LTVs. The decreases are statistically significant.

• Police-reported crashes involving rollovers were reduced by 64 percent in passenger cars and 85 percent in LTVs. The reductions are statistically significant.

• ESC reduced culpable fatal multi-vehicle crashes by 19 percent for passenger cars and 34 percent for LTVs. Only the reduction involving LTVs is statistically significant.

• Culpable involvements in police-reported multi-vehicle crashes were decreased by 13 percent in passenger cars and 16 percent in LTVs. The decreases are statistically significant.

• Overall, ESC reduced all fatal crashes by 14 percent for passenger cars and 28 percent for LTVs. Only the reduction in LTVs is statistically significant.

• Overall, police-reported crash involvements decreased by 8 percent in passenger cars and 10 percent in LTVs. The decreases are statistically significant.

This evaluation was peer-reviewed by two (2) qualified specialists who have experience in statistics and analysis of crash avoidance. The draft report (Docket No. NHTSA-2006-25801-2) was revised to address most of the comments from the peer-reviewers. You may access their comments on the draft and the entire peer review process in Docket No. NHTSA-2006-26415.

How can I influence NHTSA's thinking on this subject?

NHTSA welcomes public review of the report and invites reviewers to submit comments about the data and the statistical methods used in the analyses. NHTSA will submit to the Docket a response to the comments and, if appropriate, additional analyses that supplement or revise the report.

How do I prepare and submit comments?

Your comments must be written and in English. To ensure that your comments are correctly filed in the Docket, please include the Docket number of this document (NHTSA-2007-28629) in your comments.

Your primary comments must not be more than 15 pages long (49 CFR 553.21). However, you may attach additional documents to your primary comments. There is no limit on the length of the attachments.

Please send two paper copies of your comments to Docket Management, submit them electronically, or fax them. The mailing address is U.S. Department of Transportation Docket Management, Room W12-140, 1200 New Jersey Avenue, SE., Washington, DC 20590. If you submit your comments electronically, log onto the Dockets Management System Web site at http://dms.dot.gov and click on “Help” to obtain instructions. The fax number is 1-202-493-2251.

We also request, but do not require you to send a copy to Jennifer N. Dang, Evaluation Division, NPO-131, National Highway Traffic Safety Administration, Room W53-455, 1200 New Jersey Avenue, SE., Washington, DC 20590 (alternatively, FAX to 202-366-3189 or e-mail to Jenny.Dang@dot.gov). She can check if your comments have been received at the Docket and can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, NCC-110, Room W41-227, National Highway Traffic Safety Administration, 1200 New Jersey Avenue, SE., Washington, DC 20590. Include a cover letter supplying the information specified in our confidential business information regulation (49 CFR Part 512).

In addition, send two copies from which you have deleted the claimed confidential business information to Docket Management, Room W12-140, 1200 New Jersey Avenue, SE., Washington, DC 20590, or submit them electronically.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the comments by visiting Docket Management in person at Room W12-140, 1200 New Jersey Avenue, SE., Washington, DC from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (28629). Click on “Search.”

D. On the next page, which contains Docket summary information for the Docket you selected, click on the desired comments. You may also download the comments.

Authority: 49 U.S.C. 30111, 30168; delegation of authority at 49 CFR 1.50 and 501.8.

Joseph S. Carra,
Associate Administrator for the National Center for Statistics and Analysis.

[FR Doc. E7-14627 Filed 7-27-07; 8:45 am]

BILLING CODE 4910-59-P